DEPARTMENT OF EDUCATION

National Awards Program for Effective Teacher Preparation

AGENCY: Office of Educational Research and Improvement (OERI), Department of Education.

ACTION: Notice of proposed eligibility and selection criteria.

SUMMARY: The Assistant Secretary for OERI proposes eligibility and selection criteria to govern competitions under the National Awards Program for Effective Teacher Preparation for fiscal year (FY) 2000 and future fiscal years. Under these criteria, the awards program would recognize model programs that prepare elementary school teachers or secondary school mathematics teachers, and that lead to improved student learning.

DATES: We must receive your comments on or before March 6, 2000.

ADDRESSES: Address all comments about these proposed definitions and selection criteria to Sharon Horn, Office of Educational Research and Improvement, U.S. Department of Education, 555 New Jersey Avenue, NW., room 506E, Washington, DC 20208-5644. If you prefer to send your comments through the Internet, use the following address:

sharon_horn@ed.gov

You may also fax your comments to Sharon Horn at (202) 219-2198.

If you want to comment on the information collection requirements you must send your comments to the Office of Management and Budget at the address listed in the Paperwork Reduction Act section of this preamble. You may also send a copy of these comments to the Department representative named in this section.

FOR FURTHER INFORMATION CONTACT: Sharon Horn. Telephone: (202) 219-2203. If you use a telecommunications device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION:

Invitation to Comment

We invite you to submit comments regarding these proposed eligibility and selection criteria.

We invite you to assist us in complying with the specific requirements of Executive Order 12866 and its overall requirement of reducing regulatory burden that might result from these proposed eligibility and selection criteria. Please let us know of any further opportunities we should take to reduce potential costs or increase potential benefits while preserving the effective and efficient administration of the program.

During and after the comment period, you may inspect all public comments about these proposed eligibility and selection criteria in room 506E, 555 New Jersey Avenue, NW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed eligibility and selection criteria. If you want to schedule an appointment for this type of aid, you may call (202) 205-8113 or (202) 260-9895. If you use a TDD, you may call the Federal Information Relay Service at 1-800-877-8339.

General Information

Through this notice the Secretary proposes eligibility and selection criteria to govern applications for recognition that are submitted under the National Awards Program for Effective Teacher Preparation. The criteria established in this notice would be used to select award recipients in the program's initial year, FY 2000, and in subsequent fiscal years. The Secretary plans to publicly honor and recognize successful applicants.

This new program, which is being proposed as part of a continuing effort to honor excellence in education, is the result of an increased emphasis across the country on teacher quality and the well-established principle that high-quality K-12 teachers are critical to the ability of children in our nation's schools to achieve to high standards. Yet, while few would question that any effort to improve student learning depends on better teaching in schools, we are proposing this program in an effort to highlight the relationship between student learning and the quality of the programs preparing our public school teachers. To this point, there has not existed a systematic way to identify entities that have successfully linked their programs for preparing teachers to improved student achievement at the K-12 level. Given the current emphasis on heightened academic standards for elementary and secondary students and the need for teachers to gain the knowledge and skills necessary to teach to those standards, we believe the time is right to focus attention on those teacher preparation programs that are particularly effective in preparing teachers who, in turn, are effective in helping students improve their learning.

We recognize that demonstrating the link between teacher preparation programs and the ability of program graduates to improve student learning is not an easy task. The difficulty involved, however, makes that link no less critical. We intend to select for awards no more than five pre-service teacher preparation programs that are on the leading edge in this effort. Our chief goal in recognizing these programs is to foster an understanding of how these noteworthy programs design their teacher preparation activities to increase K-12 student achievement and how their approaches can be replicated or built upon by other institutions that prepare teachers. For that reason, the criteria for selecting award recipients, as described in this notice, focus significantly on the ability of applicants to provide compelling evidence of effectiveness in preparing teachers who positively impact student learning.

The timeliness of this new awards program is also supported by the fact that institutions producing teachers, and the states that certify them, are increasingly coming under scrutiny as the public seeks higher standards and greater accountability for public schools and school teachers. The Department, as well as many States, is currently implementing new accountability measures and reporting requirements for States and for colleges and universities receiving Federal grants to support teacher training programs. Some institutions have already implemented accountability measures, while others have started to take steps to improve and to become accountable for the teachers they train. We hope that bringing attention to those teacher preparation programs that are effective in this area will serve to assist other programs in their efforts to improve their level of accountability.

In order to align the program with nation-wide efforts to improve achievement levels in math and reading, this awards program will focus, in its initial year, on programs that prepare elementary teachers (since elementary school teachers often teach both math and reading) and programs that prepare middle or high school mathematics teachers or both. Thus, to be selected for an award, applicants must be able to show that their graduates are effective in helping all students improve their learning in reading and mathematics at the elementary level or mathematics at the middle and high school level or both. By “all students,” we mean the diverse population of students that graduates of teacher education programs may encounter in the classroom or other educational setting, including regular and special education students, students from diverse backgrounds, and students with limited English proficiency. The selection process will also depend on the ability of applicants to demonstrate that their graduates have a depth of content knowledge in mathematics and reading or both, acquire general and content-specific pedagogical knowledge and skills, and develop skills to examine attitudes and beliefs about learners and the teaching profession.

The Secretary will announce the final eligibility and selection criteria in a notice in the Federal Register. We will determine the final eligibility and selection criteria after considering responses to this notice and other information available to the Department.

Note: This notice does not solicit applications. In any year in which the Assistant Secretary chooses to use these proposed eligibility and selection criteria, we invite applications through a notice in the Federal Register.

Proposed Eligibility, Application, and Selection Criteria

Eligible applicants:

Eligible applicants would be institutions in the States (including the District of Columbia, Puerto Rico, and the outlying areas) that prepare elementary teachers, or middle or high school mathematics teachers, for initial certification. Institutions of higher education as well as institutions that are not part of a college or university are eligible to apply. Since this program focuses on initial preparation of teachers, alternative certification programs are eligible, while in-service programs are not.

For purposes of this notice, a “teacher preparation program” refers to a defined set of experiences that, taken as a whole, prepares participants for initial (or alternative) certification to teach. Detailed instructions for applying for this award, including formatting instructions, are provided within the application package and must be followed to receive an award.

Application Content Requirements

Applicants would be free to develop their application in any way they choose as long as they comply with the requirements set out in the application package. In evaluating applications for the National Awards Program for Effective Teacher Preparation, reviewers will look to see whether the application, taken as a whole, demonstrates that the applicant's teacher preparation program leads to improved teacher effectiveness and increased student achievement at the K-12 level. In doing so, reviewers would be guided by the extent to which and how well applicants address the following components of the application, the most important of which would concern objective evidence of effectiveness under section C of the application.

Sections A, B and D of the application provide reviewers with information describing the teacher preparation program and its potential as a model. Reviewers will use the information in these three sections to determine the extent to which there is a logical connection between the various aspects of the program and the results achieved. In other words, they will check for consistency between the information provided in these sections and the applicant's claims of effectiveness under section C. In section C, applicants provide formative, summative and confirming evidence that their program is effective in preparing graduates who are able to help all K-12 students improve their learning in reading and mathematics at the elementary level or mathematics at the middle or high school level.

Where appropriate, the following proposed sections of the application include one or more questions that are designed to help applicants formulate their responses.

A. Background and Program Description

In this section, applicants would provide the mission statement and goals and objectives of their teacher preparation program and describe the components of their program.

In responding to this section, applicants would be encouraged to provide information about:

1. Recruitment policies for faculty and candidates.

2. Selection procedures for faculty and candidates.

3. Program structure (e.g., course and field experiences, support for preservice and novice teachers, mechanisms for monitoring participants' progress).

4. Resources that support the program.

5. Methods for collaboration between the program and K-12 schools.

6. Graduation or completion criteria and rates.

7. Job placement and retention rates of graduates.

B. Program's Criteria for Effectiveness

In this section, applicants would describe the principles, standards, or other criteria that the applicant uses to judge the effectiveness of its teacher preparation program.

(Note: Applications would not be evaluated against a given set of principles for all programs, but are expected to include relevant criteria for guiding program improvement and modifications).

In responding to this section, applicants should consider the following questions:

1. What are the criteria the program uses to evaluate its effectiveness?

2. How does the program ensure that program components such as courses and instructional practices are consistent with the evaluation criteria under Question 1?

C. Evidence of Effectiveness

In this section, applicants would provide three separate types of evidence that demonstrates the effectiveness of their teacher preparation program: formative, summative, and confirming evidence.

“Formative evidence” refers to the use of data to make adjustments to the program throughout its various stages. These data are collected as participants (i.e., preservice teachers) move through the program.

“Summative evidence” demonstrates that the program is effective in helping graduates acquire the necessary knowledge and skills to improve student learning. Summative evidence is collected as preservice teachers complete the program.

“Confirming evidence” links teacher preparation and K-12 student learning by demonstrating that program graduates are effective in helping all K-12 students improve their learning. Confirming evidence is collected on graduates who are employed by schools or districts.

Applicants would supply a brief description for each evidence item submitted. This description must include information about the nature of the data, the methods used to collect the data, and a summary of the data analysis.

In responding to this section, applicants must consider the following questions:

1. What evidence is there that the program, as envisioned in section A, gathers data about the effectiveness of the various stages of the program and uses that data to make improvements to the program? (Formative evidence)

2. What evidence is there that the program is effective in helping graduates acquire the knowledge and skills needed to improve student learning for all K-12 students? (Summative evidence)

(Note: Summative evidence in this section should address graduates' content knowledge, pedagogical knowledge and skills, and skills to examine beliefs about learners and teaching as a profession.)

3. What evidence is there that the program's graduates are effective in helping all K-12 students improve their learning in reading and mathematics at the elementary level or mathematics at the middle or high school level? (Confirming evidence)

D. Implications for the Field

A major goal of the National Awards Program for Effective Teacher Preparation is to make information about successful programs available across the country to other programs that may be considering ways to improve their effectiveness. In this section, applicants would discuss the challenges they have faced and overcome in administering their teacher preparation program, as well as the resulting lessons they have learned.

In responding to this section, applicants should consider the following:

1. What is at least one significant challenge that the program encountered within the last five years and how was it overcome?

(Note: Since demonstrating the link between teacher preparation and K-12 student learning is a primary focus of the awards program, applicants should consider describing challenges related to this issue.)

2. What lessons that would benefit others have been learned about designing, implementing, or evaluating a program that prepares graduates who are effective in helping improve student learning for all K-12 students?

3. What program materials (e.g., videos, Web sites, course outlines, manuals, strategies, processes) are available that could benefit others?

4. How have or could you help others adapt the aspects of your program that contribute most to graduates' effectiveness with K-12 students?

Selection Criteria

Reviewers would evaluate the information provided in each application based on three criteria: rigor, sufficiency, and consistency. These criteria, and the performance levels applicable to each, are identified in the rubric shown in Figure 1. Reviewers would use this rubric as the review instrument to judge the quality of each application.

The Evidence of Effectiveness provided by an applicant under section C, the most critical portion of the application, would be evaluated on the basis of its rigor and sufficiency. The level of “rigor” applied to the evidence submitted would be determined by the extent to which the qualitative or quantitative data presented is found to be valid and reliable. The level of “sufficiency” applied to the evidence submitted would be determined by the adequacy and the extent of the data provided.

The application as a whole will be evaluated on the basis of its consistency. The level of “consistency” of the application would be based on the extent to which there is a logical link between various aspects of the program as described in Sections A, B and D of the application and the evidence of effectiveness provided under Section C. For example, if an applicant indicates in sections A, B, or D of its application that field experiences are important to the preparation of teachers, then the application should describe the variety of field experiences that are spread over the duration of the program and also include, for purposes of “consistency,” documentation of the effectiveness of these experiences.

The rubric in Figure 1 identifies a range of performance levels, from 1 to 4, that reviewers will use to judge the quality of an application with regard to the three criteria—rigor, sufficiency and consistency. Reviewers will assign a level of the rubric, 1 to 4, for each criterion based on their judgment of how well the information provided in the application matches the descriptions in the rubric of the relevant performance levels. Prior to reviewing applications, reviewers will receive extensive training in using the rubric to ensure inter-rater reliability.

Figure 1. Rubric for Evaluating Evidence of Effectiveness
Performance levels | Selection criteria: Rigor | Selection criteria: Sufficiency | Selection criteria: Consistency
4 | The evidence is highly credible. The data are valid and indicators are free of bias. Reliability is supported by multi-year data from several sources | There are extensive data that support claims of effectiveness. The evidence includes data from multiple sources with multiple indicators | Components of the program are consistent with the vision of the program. Program components are monitored to determine if they are being instituted as designed. There is a planned, logical link between the program components and the outcomes. The evidence supports the link between program components and program success. The consistencies support the credibility of the evidence.
3 | The evidence is credible. Validity has been addressed for most of the data. There may be some questions of bias. Reliability is supported by two or more years of data from at least one data source | There are adequate data to support the claims of effectiveness. There are multiple sources of evidence and multiple indicators for at least one source | There are minor inconsistencies between the vision of the program and program components. Some components of program may not be monitored or there may be some inconsistencies between the evidence provided and the identified successful components of the program. The inconsistencies do not weaken the credibility of the evidence.
2 | The evidence has limited credibility. The rigor is compromised by issues of bias or validity/reliability. There are no multi-year data from any source | There are limited data to support the claims of effectiveness. The data are collected from only one or two sources. There are no multiple indicators for the data source(s) | There are several inconsistencies between the vision of the program and program components. There are significant inconsistencies between the evidence provided and the identified successful components of the program. The inconsistencies raise questions about the credibility of the evidence.
1 | The evidence has little or no credibility. The rigor is significantly compromised by issues of bias. The data lack validity/reliability. There is no multi-year data. OR There is not enough information provided to determine rigor | There are not enough data to support claims of effectiveness. There is only a single source of data | There are numerous inconsistencies between the vision of the program and its components. The evidence provided is not linked to the components of the program that have been identified as contributing to the program's success. The inconsistencies raise significant questions about the credibility of the evidence.

Proposed Selection Procedures

Award recipients would be selected through a five-stage process.

Stage 1. During the first stage, applications would be initially screened by Department staff to determine whether the submitting party meets the eligibility requirements and whether the application contains all necessary information (including the three types of evidence required under section C) and meets the formatting requirements.

Stage 2. The second stage of review, to determine up to 10 semi-finalists, would be conducted by non-Departmental teams representing a broad range of teacher educators, practitioners (e.g., mathematicians, mathematics educators, K-12 teachers, reading specialists), and policymakers (e.g., superintendents, school board members, principals) who would evaluate the quality of the applications against the selection criteria and applicable performance levels.

Stage 3. In the third stage, non-Department expert teams (team members would differ from the reviewers involved in Stages 2) would conduct site visits to verify information presented in the semi-finalists' applications and, to the extent available, to collect additional information. These teams would draft site-visit reports of their findings.

Stage 4. During the fourth stage, a non-Departmental national awards panel (panel members will differ from the reviewers involved Stages 2 and 3) would review the semi-finalist applications and site visit reports. Panel members will then present final recommendations to the Department on which teacher preparation programs merit national recognition.

Stage 5. In the fifth and final stage, the Department will review data collected throughout the review process and select for national recognition up to 5 applications of the highest quality. The Secretary intends to publicly honor and recognize these awardees at a national ceremony in Washington, D.C.

Goals 2000: Educate America Act

The Goals 2000: Educate America Act (Goals 2000) focuses the Nation's education reform efforts on the eight National Education Goals and provides a framework for meeting them. Goals 2000 promotes new partnerships to strengthen schools and expands the Department's capacities for helping communities to exchange ideas and obtain information needed to achieve the goals.

These proposed eligibility and selection criteria would address the National Education Goal that the Nation's teaching force will have the content knowledge and teaching skills needed to instruct all American students for the next century.

Paperwork Reduction Act of 1995

This notice and the proposed application packet contains information collection requirements. Under the Paperwork Reduction Act of 1995 (44 U.S.C. 3507(d)), the Department of Education has submitted a copy of this notice and the application package to the Office of Management and Budget (OMB) for its review.

Collection of Information: National Awards Program for Effective Teacher Preparation.

Entities that prepare elementary teachers, or middle or high school mathematics teachers, for initial certification are eligible to apply for national recognition of the quality of their teacher preparation program. Information in the application would include:

(1) A description of the applicant's teacher preparation program in terms of its mission, goals, and components.

(2) The evaluation criteria used by the applicant's program.

(3) Available evidence to support the effectiveness of the applicant's program in preparing teachers to improve student learning at the K-12 level.

(4) Implications or lessons that the applicant's program can provide the field of teacher preparation. Applications also would be limited in page number and have to meet basic formatting requirements. The Department would use this information to select the highest-quality applicants through a review of responses provided in the application and site visits that can confirm the accuracy of information contained in the application.

All information is to be collected once only from each applicant. Annual reporting and record keeping burden for this collection of information is estimated to average 50 hours for each response for 50 respondents, including the time for reviewing instructions, searching existing data sources, gathering and maintaining the data needed, and completing and reviewing the collection of information. For the 10 applicants selected for site reviews, there will be an additional annual reporting and record keeping burden that is estimated to average 20 hours for each response. Thus, the total annual reporting and record keeping burden for this collection is estimated to be 2,700 hours.

If you want to comment on the information collection requirements, please send your comments to the Office of Information and Regulatory Affairs, OMB, room 10235, New Executive Office Building, Washington, DC 20503; Attention: Desk Officer for U.S. Department of Education. You may also send a copy of these comments to the Department representative named in the ADDRESSES section of this preamble.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques or other forms of information technology; e.g., permitting electronic submission of responses.

OMB is required to make a decision concerning the collection of information contained in this notice of proposed eligibility and selection criteria between 30 and 60 days after publication of this document in the Federal Register. Therefore, to ensure that OMB gives your comments full consideration, it is important that OMB receives the comments within 30 days of publication. This does not affect the deadline for your comments to us on the notice of proposed eligibility and selection criteria.

Intergovernmental Review

This program is subject to Executive Order 12372 and the regulations in 34 CFR Part 79. One of the objectives of the Executive order is to foster an intergovernmental partnership and a strengthened federalism. The Executive order relies on processes developed by State and local governments for coordination and review of proposed Federal financial assistance.

This document is intended to provide early notification of our specific plans and actions for this program.

Program Authority: 20 U.S.C. 8001

Electronic Access to This Document

You may review this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, D.C. area, at (202) 512-1530.

Note: The official version of this document is the document published in the Federal Register. Free Internet access to the official edition of the Federal Register and the Code of Federal Regulations is available on GPO Access at: http://www.access.gpo.gov/nara/index.html

Dated: January 18, 2000.
C. Kent McGuire,
Assistant Secretary for Educational Research and Improvement.

[FR Doc. 00-1515 Filed 1-20-00; 8:45 am]

BILLING CODE 4000-01-U